NATIONAL ARCHIVES AND RECORDS ADMINISTRATION

36 CFR Part 1200

RIN 3095-AB48

Official Seals and Logos

AGENCY: National Archives and Records Administration (NARA).

ACTION: Proposed rule.

SUMMARY: The National Archives and Records Administration (NARA) is proposing to update its regulations on the use of official NARA seals and logos by the public and other Federal agencies by updating two of the logos that are used. This part applies to the public and other Federal agencies.

DATES: Comments are due by April 25, 2006.

ADDRESSES: NARA invites interested persons to submit comments on this proposed rule. Comments may be submitted by any of the following methods:

Mail: Send comments to: Regulation Comments Desk (NPOL), Room 4100, Policy and Planning Staff, National Archives and Records Administration, 8601 Adelphi Road, College Park, MD 20740-6001.

Fax: Submit comments by facsimile transmission to: 301-837-0319.

E-Mail: Send comments to http://www.regulations.gov.

FOR FURTHER INFORMATION CONTACT: Kim Richardson at telephone number 301-837-2902 or fax number 301-837-0319.

SUPPLEMENTARY INFORMATION: NARA has three official seals, which are primarily used to authenticate records in NARA's custody. NARA also has a number of official logos, which we use to represent our major programs, products, and services. Though the official NARA seals and logos are primarily reserved for NARA use, if certain conditions are met, the public and other Federal agencies may request to use the seals and logos with NARA's permission.

We are proposing to include illustrations of two redesigned logos. The first is our Federal Records Center Program logo and the second is our National Historical Publications and Records Commission logo.

This proposed rule is not a significant regulatory action for the purposes of Executive Order 12866 and has not been reviewed by the Office of Management and Budget. As required by the Regulatory Flexibility Act, I certify that this rule will not have a significant impact on a substantial number of small entities. This regulation does not have any federalism implications.

List of Subjects in 36 CFR Part 1200

Seals and insignia.

For the reasons set forth in the preamble, NARA proposes to amend part 1200 of title 36, Code of Federal Regulations, as follows:

PART 1200—OFFICIAL SEALS

1. The authority citation for part 1200 continues to read as follows:

Authority: 18 U.S.C. 506, 701, and 1017; 44 U.S.C. 2104(e), 2116(b), 2302.

2. Revise paragraphs (a)(1) and (a)(2) of § 1200.7 to read as follows:

§ 1200.7 What are NARA logos and how are they used?

(a) * * *

(1) The Federal Records Center Program;

(2) The National Historical Publications and Records Commission;

* * * * *

Dated: February 16, 2006.
Allen Weinstein,
Archivist of the United States.

[FR Doc. 06-1766 Filed 2-23-06; 8:45 am]

BILLING CODE 7515-01-U